DEPARTMENT OF THE INTERIOR

Bureau of Land Management

[LLCAC01000 L10100000.XZ0000 LXSIOVHD0000]

Notice of Public Video Teleconference of the Central California Resource Advisory Council

AGENCY: Bureau of Land Management, Interior.

ACTION: Notice of public meeting.

SUMMARY: In accordance with the Federal Land Policy and Management Act and the Federal Advisory Committee Act of 1972, the U.S. Department of the Interior, Bureau of Land Management (BLM) Central California Resource Advisory Council (RAC) will meet as indicated below.

DATES: A meeting will be held Wednesday, Aug. 21, from 10 a.m. to 1 p.m., by video teleconference to discuss renewable energy projects. Members of the public are welcome to attend.

Time for public comment is reserved from noon to 12:15 p.m. Members of the public can attend at the following locations: BLM Bakersfield Field Office, 3801 Pegasus Drive, Bakersfield; Hollister Field Office, 20 Hamilton Court, Hollister; Bishop Field Office, 351 Pacu Lane, Bishop; Ukiah Field Office, 2550 N. State St., Ukiah; California State Office, 2800 Cottage Way, Sacramento.

FOR FURTHER INFORMATION CONTACT: BLM Central California District Manager Este Stifel, (916) 978-4626; or BLM Public Affairs Officer David Christy, (916) 941-3146.

SUPPLEMENTARY INFORMATION: The 12-member council advises the Secretary of the Interior, through the BLM, on a variety of planning and management issues associated with public land management in Central California. At this meeting, agenda topics will include an update on renewable energy projects. Additional ongoing business will be discussed by the council. All meetings are open to the public. Members of the public may present written comments to the council. Each formal council meeting will have time allocated for public comments. Depending on the number of persons wishing to speak, and the time available, the time for individual comments may be limited. Individuals who plan to attend and need special assistance, such as sign language interpretation and other reasonable accommodations, should contact the BLM as provided above.

Dated: July 22, 2013.
David Christy,
Public Affairs Officer.

[FR Doc. 2013-18852 Filed 8-2-13; 8:45 am]

BILLING CODE 4310-40-P